DEPARTMENT OF HEALTH AND HUMAN SERVICES

Administration for Children and Families

Proposed Information Collection Activity; Comment Request

Proposed Projects

Title: Refugee Unaccompanied Minor Placement Report & Minor Progress Reports; ORR-3 and ORR-4.

OMB No.: 0970-0034.

Description: The two reports collect information necessary to administer the Unaccompanied Refugee Minor (URM) program. The ORR-3 (Placement Report) is submitted to the Office of Refugee Resettlement (ORR) by the State agency at initial placement and whenever there is a change in the child's status, including termination from the program. The ORR-4 (Progress Report) is submitted annually and records the child's progress toward the goals listed in the child's case plan.

Respondents: State governments.

Annual Burden Estimates
Instrument | Number of respondents | Number of responses per respondent | Average burden hours per response | Total burden hours
ORR-3 | 15 | 63 | 0.25 | 236.25
ORR-4 | 15 | 63 | 0.30 | 283.50

Estimated Total Annual Burden Hours: 519.75

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 18, 2009.
Robert Sargis,
Reports Clearance Officer.

[FR Doc. E9-20175 Filed 8-21-09; 8:45 am]

BILLING CODE 4184-01-P